DEPARTMENT OF COMMERCE

Foreign-Trade Zones Board

[B-3-2024]

Foreign-Trade Zone (FTZ) 89; Authorization of Production Activity; Lithion Battery, Inc.; (Battery Packs and Accessories); Henderson, Nevada

On December 27, 2023, Lithion Battery, Inc. submitted a notification of proposed production activity to the FTZ Board for its facility within FTZ 89 in Henderson, Nevada.

The notification was processed in accordance with the regulations of the FTZ Board (15 CFR part 400), including notice in the Federal Register inviting public comment (89 FR 1519, January 10, 2024). On April 25, 2024, the applicant was notified of the FTZ Board's decision that no further review of the activity is warranted at this time. The production activity described in the notification was authorized, subject to the FTZ Act and the FTZ Board's regulations, including section 400.14.

Dated: April 25, 2024.
Camille R. Evans,
Acting Executive Secretary.

[FR Doc. 2024-09273 Filed 4-29-24; 8:45 am]

BILLING CODE 3510-DS-P